OFFICE OF THE UNITED STATES TRADE REPRESENTATIVE

Reinstatement of Treatment on Government Procurement of Products From Honduras

AGENCY: Office of the United States Trade Representative.

ACTION: Reinstatement of treatment on government procurement of products from Honduras.

Under the authority delegated to me by the President in section 1-201 of Executive Order 12260 of December 31, 1980, I hereby direct that products of Honduras shall be treated as eligible products for purposes of section 1-101 of the Executive Order. Such treatment shall not apply to products originating in Honduras that are excluded from duty free treatment under 19 U.S.C. 2703(b). Decisions on the continued application of this treatment will be based on ongoing evaluation of Honduras' efforts to improve domestic procurement practices, its support for relevant international initiatives, such as those in the World Trade Organization (WTO) Working Group on Transparency in Government Procurement and the Free Trade Area of the Americas (FTAA) Negotiating Group on Government Procurement. Performance with respect to the foregoing factors will be analyzed annually in September, although changes in the application of this treatment may be made at any time. Notice of any changes in this treatment with respect to any beneficiary will be published in the Federal Register.

Robert B. Zoellick,
United States Trade Representative.

[FR Doc. 02-17563 Filed 7-11-02; 8:45 am]

BILLING CODE 3190-01-M